DEPARTMENT OF THE TREASURY

United States Mint

Notification of CCAC Public Meeting

SUMMARY: Pursuant to Public Law 108-15, enacted on April 23, 2003, the United States Mint announces a Citizens Coinage Advisory Committee (CCAC) meeting for June 2003. The meeting is open to the public. The purpose of the meeting is to conduct business associated with the CCAC's responsibility to advise the Secretary of the Treasury on themes and designs pertaining to the coinage of the United States and for other purposes.

Date: June 24, 2003.

Time: 9 a.m. to 11 a.m.

Location: United States Mint; 801 Ninth Street, NW., Washington, DC; 2nd floor Conference room.

Subject: Consider State commemorative quarter-dollar coin designs and other business.

The meeting completion time may be extended to accommodate additional business that may be conducted. Interested persons should call 202-354-7502 for the latest update on meeting time and location.

Public Law 108-15 established the CCAC to:

• Advise the Secretary of the Treasury on any theme or design proposals relating to circulating coinage, bullion coinage, Congressional gold medals, and national and other medals produced by the United States Mint;

• Advise the Secretary of the Treasury with regard to the events, persons, or places that the Committee recommends to be commemorated by the issuance of commemorative coins in each of the 5 calendar years succeeding the year in which a commemorative coin designation is made; and

• Make recommendations with respect to the mintage level for any commemorative coin recommended.

FOR FURTHER INFORMATION CONTACT: Melody Grimm; United States Mint Liaison to the CCAC; 801 Ninth Street, NW., Washington, DC 20220; or call 202-354-7606.

Any member of the public interested in submitting matters for the CCAC's consideration is invited to submit them by fax to the following number: 202-756-6424.

Authority: Public Law 108-15 (April 23, 2003).

Dated: May 23, 2003.
Henrietta Holsman Fore,
Director, United States Mint.

[FR Doc. 03-13589 Filed 5-29-03; 8:45 am]

BILLING CODE 4810-37-P